DEPARTMENT OF TRANSPORTATION

National Highway Traffic Safety Administration

Notice of Public Meeting and Workshop—Tuesday, September 21, 2004

AGENCY: National Highway Traffic Safety Administration (NHTSA), DOT.

ACTION: Notice of public meeting and workshop.

SUMMARY: The National Highway Traffic Safety Administration will conduct a public meeting and workshop to present a new vehicle safety initiative being planned by the U.S. Department of Transportation (U.S. DOT). Meeting attendees will be given an opportunity to participate in a workshop in order to ask questions and provide comments on the scope, content, and approach of the proposed program.

DATE AND TIME: The public meeting and workshop will be held on Tuesday, September 21, 2004, from 8:30 a.m. to 5 p.m.

ADDRESSES: The public meeting and workshop will be held at the Doubletree Hotel Novi, 27000 Sheraton Drive, Novi, Michigan 48377.

FOR FURTHER INFORMATION CONTACT: For questions and further information please contact: Raymond Resendes, Federal Highway Administration (FHWA), (202) 366-2182, Raymond.Resendes@fhwa.dot.gov or Jack Ference, NHTSA, (202) 366-0168, Jack.Ference@nhtsa.dot.gov.

SUPPLEMENTARY INFORMATION: The U.S. DOT has initiated a new safety research program entitled: “Integrated Vehicle Based Safety Systems” (IVBSS). One of the goals of this program is to work cooperatively with industry to accelerate the introduction and commercialization of effective integrated safety systems for light vehicles, commercial vehicles, and transit buses. These systems will assist drivers in avoiding crashes and will reduce the number and severity of injuries resulting from rear-end, run-off-road, and lane change crashes.

Based on 2003 crash statistics, there were approximately 3.8 million police-reported rear-end, run-off-road, and lane change crashes on U.S. roadways (about 60 percent of all crashes). These crashes accounted for 54 percent of the people injured in all motor vehicle crashes and about 52 percent of all related fatalities. Preliminary analyses have shown that individual rear-end, run-off-road, and lane change crash countermeasure systems could collectively prevent about 17 percent of all motor vehicle crashes. Integration of these individual systems is expected to increase the safety benefits, improve overall system performance, and reduce system cost.

This initiative will build upon prior U.S. DOT-sponsored crash avoidance research to develop and test integrated systems for passenger, commercial, and transit vehicles. It will conduct the research and field operational testing necessary to determine the safety benefits, driver acceptance, and effectiveness of integrated safety systems.

There is an extensive body of knowledge on countermeasures addressing each of these three types of crashes individually but little on their integration. In this program, performance specifications and objective tests for integrated crash warning systems addressing rear-end, run-off-road, and lane change crashes will be developed.

This meeting is open to the public. It is being held to introduce the program and obtain feedback from all interested parties, including light vehicle, heavy truck, and transit bus original equipment manufacturers, first-tier suppliers, and fleet operators.

The meeting will begin with a program overview by U.S. DOT staff. Following the program overview, meeting attendees will be given the opportunity to provide comments, ask questions and participate in a workshop to discuss the scope, content, approach, and overall program plan for the IVBSS initiative.

Pre-registration for this meeting is mandatory. Also, please note that attendance will be limited to the first 100 registrants due to space limitations of the meeting room.

Information needed by workshop participants, including the IVBSS Program Plan and a list of questions to be discussed in the workshop will be posted on the U.S. DOT's and the Intelligent Transportation Society of America's Web site at: http://www.its.dot.gov and http://www.itsa.org.

This information will be available on these Web sites after August 27, 2004.

Issued on: August 19, 2004.
Joseph N. Kanianthra,
Associate Administrator for Vehicle Safety Research, National Highway Traffic Safety Administration.

[FR Doc. 04-19455 Filed 8-24-04; 8:45 am]

BILLING CODE 4910-59-P